FEDERAL COMMUNICATIONS COMMISSION

Technological Advisory Council

ACTION: Notice of public meetings.

SUMMARY: In accordance with the Federal Advisory Committee Act, Public Law 92-463, as amended, this notice advises interested persons of the second meeting and of future meetings of the Technological Advisory Council (“Council”) under its new charter.

DATES: Monday, November 5, 2001 at 10 a.m.; Wednesday, December 5, 2001 at 10 a.m.; Wednesday, March 20, 2002 at 10 a.m.; Wednesday, June 12, 2002 at 10 a.m.; Wednesday, September 18, 2002 at 10 a.m.; and Tuesday, December 4, 2002 at 10 a.m.

ADDRESSES: Federal Communications Commission, 445 12th St., SW., Room TW-C305, Washington, DC 20554.

SUPPLEMENTARY INFORMATION: The Council was established by the Federal Communications Commission to provide a means by which a diverse array of recognized technical experts from a variety of interests such as industry, academia, government, citizens groups, etc., can provide advice to the FCC on innovation in the communications industry. The purpose of, and agenda for, the second meeting under the Council's new charter will be to organize the Council's efforts to fulfill its responsibilities under the charter. Members of the general public may attend the meeting. The Federal Communications Commission will attempt to accommodate as many persons as possible. Admittance, however, will be limited to the seating available. Unless so requested by the Council's Chair, there will be no public oral participation, but the public may submit written comments to Julius Knapp, the Council's Designated Federal Officer, before the meeting. Julius Knapp's e-mail address is jknapp@fcc.gov. His U.S. mail address is Julius Knapp, Deputy Chief, Office of Engineering and Technology, Federal Communications Commission, 445 12th Street, SW., Washington, DC 20554. Continuously accelerating technological changes in telecommunications design, manufacturing, and deployment require that the Commission be promptly informed of those changes to fulfill its statutory mandate effectively. Further meetings of the Council have been scheduled for December 5, 2001; March 20, 2002; June 12, 2002; September 18, 2002; and December 4, 2002. These meetings will address the topics that the Council has been asked to consider by the Commission. All meetings will be held in the Commission meeting room, Room TW-C-305, 445 12th Street, SW., Washington, DC. Each meeting will begin at 10 a.m. and continue until the business before the Council on that date has been completed. For additional information, contact Kent Nilsson at knilsson@fcc.gov or 202-418-0845.

Federal Communications Commission.
Magalie Roman Salas,
Secretary.

[FR Doc. 01-24957 Filed 10-4-01; 8:45 am]

BILLING CODE 6712-01-M